DEPARTMENT OF COMMERCE

Foreign-Trade Zones Board

[B-032-2017]

Foreign-Trade Zone (FTZ) 86—Tacoma, Washington; Authorization of Export-Only Production Activity, McFarland Cascade Holdings, Inc./Stella-Jones Corporation (Treaded Canadian Softwood Lumber, Plywood, Agriculture Posts, and Landscape Tinders); Tacoma, Washington

On May 15, 2017, McFarland Cascade Holdings, Inc./Stella-Jones Corporation (McFarland Cascade) submitted a notification of proposed export-only production activity to the FTZ Board for its facility within FTZ Subzone 86H in Tacoma, Washington.

The notification was processed in accordance with the regulations of the FTZ Board (15 CFR part 400), including notice in the Federal Register inviting public comment (82 FR 26663, June 8, 2017). On September 12, 2017, the applicant was notified of the FTZ Board's decision that no further review of the activity is warranted at this time. The export-only production activity described in the notification was authorized, subject to the FTZ Act and the FTZ Board's regulations, including Section 400.14.

Dated: September 22, 2017.
Andrew McGilvray,
Executive Secretary.

[FR Doc. 2017-20814 Filed 9-27-17; 8:45 am]

BILLING CODE 3510-DS-P